DEPARTMENT OF ENERGY

Federal Energy Regulatory Commission

[Docket No. EL05-139-000]

Public Utility District No. 1 of Snohomish County, Washington v. Enron Power Marketing, Inc.; Notice of Filing

August 9, 2005.

Take notice that on August 5, 2005, the Public Utility District No. 1 of Snohomish County, Washington filed a Petition for an Order Pursuant to the Commission's Exclusive Jurisdiction Declaring that a Termination Payment Charged by Enron Power Marketing, Inc. is Unjust, Unreasonable, Contrary to the Public Interest and/or Not Permitted under a Rate Schedule, or in the Alternative, Complaint Against Enron Power Marketing, Inc., pursuant to sections 205, 206, 306 and 309 of the Federal Power Act, 16 U.S.C. 824d, 824e, 825e and 825h, section 1290 (Relief For Extraordinary Violations) of the Energy Policy Act of 2005, and Rules 206 and 207 of the Federal Energy Regulatory Commission's Rules of Practice and Procedure, 18 CFR 385.206 and 385.207.

Any person desiring to intervene or to protest this filing must file in accordance with Rules 211 and 214 of the Commission's Rules of Practice and Procedure (18 CFR 385.211, 385.214) on or before 5 p.m. Eastern time on the specified comment date. Anyone filing a motion to intervene or protest must serve a copy of that document on the Complainant. Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on September 6, 2005.

Linda Mitry,
Deputy Secretary.

[FR Doc. E5-4429 Filed 8-15-05; 8:45 am]

BILLING CODE 6717-01-P